DEPARTMENT OF AGRICULTURE

Natural Resources Conservation Service

Notice of Intent: To Request a Revision of a Currently Approved Information Collection

AGENCY: Natural Resources Conservation Service (NRCS), U.S. Department of Agriculture.

ACTION: Notice and request for comments.

SUMMARY: In accordance with the Paperwork Reduction Act of 1995 (Public Law 104-13) and the Office of Management and Budget (OMB) regulations at 5 CFR part 1320 (60 FR 44978, August 29, 1995), this notice announces NRCS” intention to request a revision to a currently approved information collection, Application for Payment.

DATES: Comments on this notice must be received by March 5, 2001 to be assured of consideration.

FOR FURTHER INFORMATION CONTACT: Phyllis I. Williams, Directives Manager, NRCS, USDA, 5601 Sunnyside Avenue, Mailstop 5460, Beltsville, Maryland 20705-5000; telephone: (301) 504-2170; e-mail: Phyllis.Williams2@usda.gov.

SUPPLEMENTARY INFORMATION: Title: Application for Payment. OMB Number: 0578-0018. Expiration Date of Approval: April 30, 2001. Type of Request: To continue, with change, a currently approved collection for which approval will expire. Abstract: The primary objective of NRCS is to work in partnership with the American people to conserve and sustain our natural resources. The purpose of the Application for Payment information collection is to provide NRCS program participants with a method for making application for payment, provide information regarding completion of conservation program contract activities, provide certification of work performed within the required standards, determine division of payment, ascertain the status of debt register collections, and provide the responsible NRCS official with authority to make Federal cost-share payments to the land user or third party upon successful completion of a conservation program contract. Information collected is used by NRCS to ensure the proper use of program funds. The NRCS-FNM-141 or the CCC-1202 are the basic documents used by USDA program participants and vendors to request payment through their USDA Service Center in return for applying one or more conservation practices in a long-term contract or completing an action associated with filing an easement (7 CFR 631.12, 7 CFR 632.31, 7 CFR 636.6, 7 CFR 701.44, 7 CFR 702.12, 7 CFR 752.14 and 7 CFR 1467.9). NRCS will ask for 3-year OMB approval within 60 days of submitting the request.

Estimate of Burden: Public reporting burden for this collection of information is estimated to average 0.52 hours per response.

Respondents: Farms, individuals, households, or State, local, or Tribal governments.

Estimated Number of Respondents: 35,540.

Estimated Total Annual Burden on Respondents: 20,731.5.

Copies of this information collection and related instructions can be obtained without charge from Phyllis I. Williams, Directives Manager, NRCS, USDA, at 5601 Sunnyside Avenue, Mailstop 5460, Beltsville, Maryland 20705-5000; telephone: (301) 504-2170; e-mail: Phyllis.Williams2@usda.gov.

Comments: Comments are invited on: (a) Whether the proposed collection of information is necessary for the proper performance of the functions of the agency, including whether the information will have practical utility; (b) the accuracy of the agency's estimate of burden of the proposed collection of information, including the validity of the methodology and assumptions used; (c) ways to enhance the quality, utility, and clarity of the information to be collected; and (d) ways to minimize the burden of the collection of information on those who are to respond, such as through the use of appropriate automated, electronic, mechanical, or other technologic collection techniques or other forms of information technology. Comments may be sent to Phyllis I. Williams, Directives Manager, NRCS, USDA, 5601 Sunnyside Avenue, Mailstop 5460, Beltsville, Maryland 20705-5000; telephone: (301) 504-2170; e-mail: Phyllis.Williams2@usda.gov.

All responses to this notice will be summarized and included in the request for OMB approval.

All comments will also become a matter of public record.

Signed in Washington, D.C. on December 13, 2000.
Pearlie S. Reed,
Chief, Natural Resources Conservation Service.

[FR Doc. 00-33381 Filed 12-29-00; 8:45 am]

BILLING CODE 3410-16-U